DEPARTMENT OF ENERGY

Federal Energy Regulatory Commission

Notice of Availability of the Final Environmental Impact Statement for the Proposed Mountaineer Xpress and Gulf Xpress Projects

Columbia Gas Transmission, LLC | Docket No. CP16-357-000.
Columbia Gulf Transmission, LLC | Docket No. CP16-361-000.

The staff of the Federal Energy Regulatory Commission (FERC or Commission) has prepared a final environmental impact statement (EIS) for the Mountaineer XPress Project (MXP), proposed by Columbia Gas Transmission, LLC (Columbia Gas), and the Gulf XPress Project (GXP), proposed by Columbia Gulf Transmission, LLC (Columbia Gulf), in the above-referenced dockets. Columbia Gas requests authorization to construct and operate a total of 170.9 miles of natural gas transmission pipeline and ancillary facilities in West Virginia, and to modify one existing, one approved, and one pending compressor station. The MXP would provide about 2,700,000 dekatherms per day (Dth/d) of available capacity for transport to Columbia Gas' TCO Pool ¹ for delivery to markets across Columbia Pipeline Group's system, including the Columbia Gulf Leach interconnect with Columbia Gulf. Columbia Gulf requests authorization to construct and operate seven new natural gas-fired compressor stations and to upgrade one approved compressor station and one existing meter station in Kentucky, Tennessee, and Mississippi. The GXP would provide about 860,000 Dth/d of natural gas delivery to markets in the Gulf Coast region.

¹ The TCO Pool is the main natural gas pooling point for gas pricing and trading on Columbia Gas' system. Shippers may make deliveries into the TCO Pool from any source of delivery into Columbia Gas' system.

The EIS assesses the potential environmental effects of the construction and operation of the MXP and GXP in accordance with the requirements of the National Environmental Policy Act (NEPA). The FERC staff concludes that approval of the proposed projects would result in some adverse and significant environmental impacts. However, if the projects are constructed and operated in accordance with applicable laws and regulations, the mitigation measures discussed in this EIS, and our recommendations, these impacts would be reduced to acceptable levels.

The U.S. Environmental Protection Agency, U.S. Army Corps of Engineers, U.S. Fish and Wildlife Service, West Virginia Division of Natural Resources, and West Virginia Department of Environmental Protection participated as cooperating agencies in the preparation of this EIS. Cooperating agencies have jurisdiction by law or special expertise with respect to resources potentially affected by the proposal and may participate in the NEPA analysis. The U.S. Army Corps of Engineers would adopt and use the EIS to comply with the requirements of NEPA before issuing permits for the projects under section 404 of the Clean Water Act, which governs the discharge of dredged or fill material into waters of the United States (including wetlands). Although the cooperating agencies provided input to the conclusions and recommendations presented in this EIS, the agencies would present their own conclusions and recommendations in their respective records of decision (where applicable) for the projects.

The EIS addresses the potential environmental effects of the construction and operation in West Virginia of the following MXP facilities:

• About 164.5 miles of new 36-inch-diameter natural gas pipeline extending from Marshall County to Cabell County (MXP-100);

• about 6.0 miles of new 24-inch-diameter natural gas pipeline in Doddridge County (MXP-200);

• three new compressor stations in Doddridge, Calhoun, and Jackson Counties (one that also includes a new regulator station);

• two new regulating stations in Jackson and Cabell Counties;

• about 296 feet of new, 10-inch-diameter natural gas pipeline at the Ripley Regulator Station to tie Columbia Gas' existing X59M1 pipeline into the MXP-100 pipeline in Jackson County;

• an approximately 0.4-mile-long replacement segment of 30-inch-diameter natural gas pipeline in Cabell County; and

• upgrades to one existing compressor station (Wayne County) and two compressor stations (Marshall and Kanawha Counties) that are approved or pending, respectively, under separate FERC proceedings.

The EIS also addresses the potential environmental effects of the construction and operation of the following GXP facilities:

• Seven new compressor stations in Kentucky (Rowan, Garrard, and Metcalfe Counties), Tennessee (Davidson and Wayne Counties), and Mississippi (Union and Granada Counties);

• upgrades to one approved compressor station in Carter County, Kentucky; and

• upgrades at one existing meter station in Boyd County, Kentucky.

The FERC staff mailed copies of the EIS to federal, state, and local government representatives and agencies; elected officials; environmental and public interest groups; Native American tribes; potentially affected landowners and other interested individuals and groups; and newspapers and libraries in the project areas. Paper copies of this EIS were mailed to those specifically requesting them; all others received a CD version. In addition, the EIS is available for public viewing on the FERC's Web site (www.ferc.gov) using the eLibrary link. A limited number of copies are available for distribution and public inspection at: Federal Energy Regulatory Commission, Public Reference Room, 888 First Street NE., Room 2A, Washington, DC 20426, (202) 502-8371.

Additional information about the projects is available from the Commission's Office of External Affairs, at (866) 208-FERC, or on the FERC Web site (www.ferc.gov) using the eLibrary link. Click on the eLibrary link, click on General Search, and enter the docket number excluding the last three digits in the Docket Number field (i.e., CP16-357 and CP16-361). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: July 28, 2017.
Kimberly D. Bose,
Secretary.

[FR Doc. 2017-16346 Filed 8-2-17; 8:45 am]

BILLING CODE 6717-01-P